NATIONAL CREDIT UNION ADMINISTRATION

Sunshine Act Meeting; Notice of Meetings

TIME AND DATE: 10:00 a.m., Thursday, December 14, 2000.

PLACE: Board Room, 7th Floor, Room 7047, 1775 Duke Street, Alexandria, VA 22314-3428.

STATUS: Open.

MATTERS TO BE CONSIDERED:

1. Requests from Five (5) Federal Credit Unions to Convert to Community Charters.

2. Request for an Extension of a Waiver under Part 704 for Corporate Credit Unions.

3. Community Development Revolving Loan Program for Credit Unions: Notice of Applications for Participation and Interest Rate for Loans.

4. Interim Final Rule: Part 705, NCUA's Rules and Regulations, Community Development Revolving Loan Program For Credit Unions (CDRLP).

5. National Credit Union Share Insurance Fund (NCUSIF) Operating Level for 2001.

RECESS: 11:15 a.m.

TIME AND DATE: 11:30 a.m., Thursday, December 14, 2000.

PLACE: Board Room, 7th Floor, Room 7047, 1775 Duke Street, Alexandria, VA 22314-3428.

STATUS: Closed.

MATTERS TO BE CONSIDERED: 1. Administrative Action under Part 704 of NCUA's Rules and Regulations. Closed pursuant to exemption (8).

2. Administrative Action under Part 708 of NCUA's Rules and Regulations. Closed pursuant to exemption (8).

3. Two (2) Personnel Matters. Closed pursuant to exemptions (2) and (6).

FOR FURTHER INFORMATION CONTACT. Becky Baker, Secretary of the Board, Telephone 703-518-6304.

Becky Baker,
Secretary of the Board.

[FR Doc. 00-31641 Filed 12-7-00; 2:39 pm]

BILLING CODE 7535-01-M